DEPARTMENT OF ENERGY

Federal Energy Regulatory Commission

[Docket No. RP00-108-000]

Questar Pipeline Company; Notice of Technical Conference

April 18, 2000.

In the Commission's order issued on March 20, 2000, ¹ the Commission directed that a technical conference be held to address issues raised by the filing.

¹ 90 FERC ¶ 61,282.

Take notice that the technical conference will be held on Wednesday, May 3, 2000, at 10:00 am, in a room to be designed at the offices of the Federal Energy Regulatory Commission, 888 First Street, NE, Washington, D.C. 20426.

All interested parties and Staff are permitted to attend.

David P. Boergers,
Secretary.

[FR Doc. 00-10104 Filed 4-21-00; 8:45 am]

BILLING CODE 6717-01-M